FEDERAL HOUSING FINANCE AGENCY

12 CFR Part 1240

RIN 2590-AB18

Enterprise Regulatory Capital Framework—Public Disclosures for the Standardized Approach; Correction

AGENCY: Federal Housing Finance Agency.

ACTION: Final rule; correction.

SUMMARY: This document corrects typographical errors that appeared in the final rule published in the Federal Register on June 2, 2022, titled “Enterprise Regulatory Capital Framework—Public Disclosures for the Standardized Approach”.

DATES: Effective August 1, 2022.

FOR FURTHER INFORMATION CONTACT: Andrew Varrieur, Senior Associate Director, Office of Capital Policy, (202) 649-3141, Andrew.Varrieur@fhfa.gov; Christopher Vincent, Senior Financial Analyst, Office of Capital Policy, (202) 649-3685, Christopher.Vincent@fhfa.gov; or James Jordan, Associate General Counsel, Office of General Counsel, (202) 649-3075, James.Jordan@fhfa.gov (these are not toll-free numbers); Federal Housing Finance Agency, 400 7th Street SW, Washington, DC 20219. For TTY/TRS users with hearing and speech disabilities, dial 711 and ask to be connected to any of the contact numbers above.

SUPPLEMENTARY INFORMATION: In FR Doc. 2022-11582 of June 2, 2022 (87 FR 33423), the following corrections are made:

§ 1240.63 [Corrected]

1. On page 33432, in § 1240.63, in the table titled “Table 7 to Paragraph (c)—CRT and Securitization”, in paragraph (e), remove the word “bank” and add the word “Enterprise” in its place.

2. On page 33433, in § 1240.63, in footnote 5 following table 7 to paragraph (c), remove the word “bank” and add the word “Enterprise” in its place.

Sandra L. Thompson,
Acting Director, Federal Housing Finance Agency.

[FR Doc. 2022-13544 Filed 6-24-22; 8:45 am]

BILLING CODE 8070-01-P